DEPARTMENT OF TRANSPORTATION

Federal Aviation Administration

14 CFR Part 71

[Docket No. FAA-2020-0868; Airspace Docket No. 20-AAL-26]

RIN 2120-AA66

Proposed Amendment to Alaskan VOR Federal Airway V-319, United States Air Navigation (RNAV) Routes, T-219 and T-269, and Revocation of Federal Colored Airway R-50; Alaska

AGENCY: Federal Aviation Administration (FAA), DOT.

ACTION: Notice of proposed rulemaking (NPRM).

SUMMARY: This action proposes to remove Colored Federal airway, R-50, and amend Alaskan VOR Federal airway, V-319, and United States Air Navigation (RNAV) Routes T-219 and T-269 in Alaska. The modifications are necessary due to the planned decommissioning of the Nanwak Non-Directional Beacon (NDB) and Distance Measuring Equipment (DME) in Mekoryuk, AK, which provides navigation guidance for portions of the affected routes. The Nanwak NDB/DME (AIX) is to be decommissioned effective June 17, 2021 due to the high cost of maintenance.

DATES: Comments must be received on or before November 30, 2020.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2020-0868; Airspace Docket No. 20-AAL-26 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0868; Airspace Docket No. 20-AAL-26) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0868; Airspace Docket No. 20-AAL-26.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

The Nanwak (AIX) NDB/DME has been out of service for more than six years. Due to the high cost of maintenance, the FAA has determined it necessary to decommission the Navigational Aid (NAVAID) and establish a new waypoint (WP), the MKLUK, AK, WP, in its place. The upcoming decommissioning of the AIX NDB/DME will require removal of Federal Colored airway R-50, and amendment of Alaskan VOR Federal Airway V-319 and RNAV routes T-219 and T-269 to remove and add associated airway segments.

Due to the pending decommissioning of AIX and Oscarville NDB (OSE), the NAVAIDS that support R-50 will be nullified. The segment of R-50 to be revoked from AIX to OSE will be mitigated by an extension of T-269 from the Bethel VHF Omnidirectional Radar and Tactical Air Navigation System (VORTAC) to a newly established waypoint, the MKLUK, AK, WP. The additional segment of the route being deleted from OSE to the Anvik, AK, NDB can be mitigated by utilizing V-453 and V-510.

Alaskan VOR Federal airway V-319 will require an amendment deleting the segment from the Hooper Bay VOR/DME to AIX. The loss of this segment will be mitigated by an extension of T-219.

RNAV route T-219 will be amended to extend the airway from its current termination point at Nanwak NDB to Hooper Bay via the MKLUK, AK, WP to mitigate the loss of V-319 in this area. T-219 will also have two additional turn points added to the legal description between the Dillingham, AK, VOR/DME and the RUFVY, AK, WP. The FAA JO 7400.2M section 20-5-3 requires that points where a route changes direction be included in the legal description. The waypoints NACIP and ACATE are established reporting points, therefore, in order to comply with the published guidance, they will be included in the proposed amended legal description. Finally, the 7400.2M section 20-1-5 specifies that odd routes in the description be oriented south to north. The current legal description does not follow that guidance and requires correction.

RNAV route T-269 will be amended to extend its current termination point at the Bethel, AK, VORTAC to the MKLUK, AK, WP. This change would mitigate the loss of the R-50 segment from Nanwak NDB to Bethel VORTAC. Additionally, there are several waypoints and fixes that are missing from the current legal description. As stated earlier, FAA JO 7400.2M requires that any turn point be included in the legal description. There are eight waypoints (WP) and fixes along this route that meet that criteria. The points include: TURTY, AK, WP, and FLIPS, AK, FIX between Annette Island, AK (ANN) and Biorka Island, AK (BKA); HAPIT, AK, WP, and CENTA, AK, WP between BKA and Yakutat, AK (YAK); KATAT, AK, WP between YAK and Johnstone Point, AK (JOH); YONEK, AK, WP, VEILL, AK, WP between Anchorage, AK (TED) and Sparrevohn, AK (SQA); VIDDA, AK between SQA and Bethel, AK (BET). The Part 71 legal description requires amendment to include these points.

The Proposal

The FAA is proposing an amendment to Title 14 Code of Federal Regulations (14 CFR) part 71 to remove Colored Federal airway R-50, amend Alaskan VOR Federal Airway V-319, and amend RNAV routes T-219 and T-269. The proposed actions are described below.

R-50: R-50 currently extends between the Nanwak, AK, NDB and the Anvik, AK, NDB. The FAA proposes to remove the entire route.

V-319: V-319 currently extends between the Yakutat, AK and the Nanwak, AK, NDB. The FAA proposes to remove the segment from the Hooper Bay, AK, VOR/DME to the Nanwak, AK, NDB.

T-219: T-219 currently extends between the Nanwak, AK, NDB and the Dillingham, AK, VOR/DME. The FAA proposes to extend the airway from the MKLUK, AK, WP to the Hooper Bay, AK, VOR/DME. Additionally, the proposal would correct the legal description, to include the NACIP, AK, WP and the ACATE, AK WP. Finally, the proposal would correct the legal description so that it denotes south to north track as it states in the FAA JO 7400.2M paragraph 20-1-5 e2.

T-269: T-269 currently extends between the Annette Island, AK, VOR/DME and the Bethel, AK, VORTAC. The FAA proposes to extend the airway from the Bethel, AK, VORTAC to the MKLUK, AK, WP. Additionally, the FAA proposes to incorporate eight additional waypoints and fixes that were not included in the legal description. These reporting points include TURTY, AK, WP; FLIPS, AK, FIX; HAPIT, AK, FIX; CENTRA, AK, WP; KATAT, AK, WP; YONEK, AK, WP; VEILL, AK, WP, and VIDDA, AK, WP that contain a turn and are required to be included in the legal description as per the FAA JO 7400.2M paragraph 20-1-5 h2.

Colored Federal airways are published in paragraph 6009, Alaskan VOR Federal Airways are published in paragraph 6010 (b), and United States Area Navigation Routes are published in paragraph 6011 of FAA Order 7400.11E dated July 21, 2020, and effective September 15, 2020, which is incorporated by reference in 14 CFR part 71.1. The Colored Federal Airways listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6009—Colored Federal Airways.

* * * * *

R-50 [Removed]

* * * * *

Paragraph 6010(b)—Alaskan VOR Federal airways

* * * * *

V-319 [Amended]

From Yakutat, AK, via Johnstone Point, AK, INT Johnstone Point 291° and Anchorage, AK, 125° radials; Anchorage, AK; Sparrevohn, AK; Bethel, AK; Hooper Bay, AK.

* * * * *

Paragraph 6011—United States Area Navigation Routes

* * * * * * *
T-219 DLG to HPB [Amended]
DILLINGHAM, AK (DLG) | VOR/DME | (Lat. 58°59′39.24″ N, long. 158°33′07.99″ W)
NACIP, AK | WP | (Lat. 59°23′17.51″ N, long. 160°38′06.01″ W)
ACATE, AK | WP | (Lat. 59°42′50.93″ N, long. 162°33′09.70″ W)
RUFVY, AK | WP | (Lat. 59°56′34.16″ N, long. 164°02′03.72″ W)
MKLUK, AK | WP | (Lat. 60°26′40.04″ N, long. 165°55′17.28″ W)
HOOPER BAY, AK (HPB) | VOR/DME | (Lat. 61°30′51.65″ N, long. 166°08′04.13″ W)
* * * * * * *
T-269 ANN to MKLUK [Amended]
ANNETTE ISLAND, AK (ANN) | VOR/DME | (Lat. 55°03′37.47″ N, long. 131°34′42.24″ W)
TURTY, AK | WP | (Lat. 55°48′26.84″ N, long. 133°08′58.14″ W)
FLIPS, AK | FIX | (Lat. 56°34′32.58″ N, long. 134°52′46.97″ W)
BIORKA ISLAND, AK (BKA) | VORTAC | (Lat. 56°51′33.87″ N, long. 135°33′04.72″ W)
HAPIT, AK | WP | (Lat. 58°11′57.57″ N, long. 137°31′12.45″ W)
CENTA, AK | WP | (Lat. 59°00′21.35″ N, long. 138°48′10.27″ W)
YAKUTAT, AK (YAK) | VOR/DME | (Lat. 59°30′38.99″ N, long. 139°38′53.26″ W)
KATAT, AK | WP | (Lat. 60°15′29.17″ N, long. 144°42′18.77″ W)
JOHNSTONE POINT, AK (JOH) | VOR/DME | (Lat. 60°28′51.43″ N, long. 146°35′57.61″ W)
ANCHORAGE, AK (TED) | VOR/DME | (Lat. 61°10′04.32″ N, long. 149°57′36.51″ W)
YONEK, AK | WP | (Lat. 61°10′22.97″ N, long. 151°14′08.30″ W)
VEILL, AK | WP | (Lat. 61°08′13.91″ N, long. 154°15′45.68″ W)
SPARREVOH N, AK (SQA) | VOR/DME | (Lat. 61°05′54.89″ N, long. 155°38′04.49″ W)
VIDDA, AK | WP | (Lat. 60°52′41.05″ N, long. 160°28′33.09″ W)
BETHEL, AK (BET) | VORTAC | (Lat. 60°47′05.41″ N, long. 161°49′27.59″ W)
MKLUK, AK | WP | (Lat. 60°26′40.04″ N, long. 165°55′17.28″ W)

* * * * *

Issued in Washington, DC, on October 7, 2020.
Scott M. Rosenbloom,
Acting Manager, Rules and Regulations Group.

[FR Doc. 2020-22582 Filed 10-13-20; 8:45 am]

BILLING CODE 4910-13-P